DEPARTMENT OF ENERGY

Federal Energy Regulatory Commission

Combined Notice of Filings #1

Take notice that the Commission received the following electric corporate filings:

Docket Numbers: EC15-106-000.

Applicants: CPV Maryland, LLC, CPV Shore, LLC, CPV Keenan II Renewable Energy Company, LLC, CPV Biomass Holdings, LLC, Benson Power, LLC.

Description: Application for Authorization Under Section 203 of the Federal Power Act and Request for Waivers, Confidential Treatment, and Expedited Action and Shortened Comment Period of CPV Maryland, LLC, et. al.

Filed Date: 3/31/15.

Accession Number: 20150331-5499.

Comments Due: 5 p.m. ET 4/21/15.

Docket Numbers: EC15-107-000.

Applicants: Public Service Company of New Mexico.

Description: Application Under Section 203 of the Federal Power Act for Acquisition of Jurisdictional Facilities by Public Service Company of New Mexico.

Filed Date: 3/31/15.

Accession Number: 20150331-5516.

Comments Due: 5 p.m. ET 4/21/15.

Take notice that the Commission received the following electric rate filings:

Docket Numbers: ER15-828-003.

Applicants: Louisville Gas and Electric Company.

Description: Tariff Amendment per 35.17(b): Errata Filing Modifications to Attach O Formula Rate to be effective 2/1/2015.

Filed Date: 3/30/15.

Accession Number: 20150330-5533.

Comments Due: 5 p.m. ET 4/20/15.

Docket Numbers: ER15-967-001.

Applicants: PJM Interconnection, L.L.C., Old Dominion Electric Cooperative.

Description: Compliance filing per 35: Compliance Filing per 3/17/15 Order in Docket No. ER15-967-000 to be effective 2/1/2015.

Filed Date: 3/30/15.

Accession Number: 20150330-5517.

Comments Due: 5 p.m. ET 4/20/15.

Docket Numbers: ER15-1400-000.

Applicants: Erie Power, LLC.

Description: Initial rate filing per 35.12 Erie Power Market Based Rate Tariff to be effective 6/1/2015.

Filed Date: 3/31/15.

Accession Number: 20150331-5006.

Comments Due: 5 p.m. ET 4/21/15.

Docket Numbers: ER15-1401-000.

Applicants: Southwest Power Pool, Inc.

Description: Section 205(d) rate filing per 35.13(a)(2)(iii): 3006 CP Bloom Wind, LLC Generator Interconnection Agreement to be effective 3/2/2015.

Filed Date: 3/31/15.

Accession Number: 20150331-5174.

Comments Due: 5 p.m. ET 4/21/15.

Docket Numbers: ER15-1402-000.

Applicants: Inertia Power II, LLC.

Description: Tariff Withdrawal per 35.15: Initial Cancellation to be effective 3/31/2015.

Filed Date: 3/31/15.

Accession Number: 20150331-5229.

Comments Due: 5 p.m. ET 4/21/15.

Docket Numbers: ER15-1403-000.

Applicants: New York State Electric & Gas Corporation.

Description: Section 205(d) rate filing per 35.13(a)(2)(iii): Executed Services Agreement between NYSEG and FirstEnergy to be effective 3/18/2015.

Filed Date: 3/31/15.

Accession Number: 20150331-5264.

Comments Due: 5 p.m. ET 4/21/15.

Docket Numbers: ER15-1404-000.

Applicants: Mississippi Power Company.

Description: Section 205(d) rate filing per 35.13(a)(1): MRA 26 Rate Case Filing to be effective 4/1/2015.

Filed Date: 3/31/15.

Accession Number: 20150331-5336.

Comments Due: 5 p.m. ET 4/21/15.

Docket Numbers: ER15-1405-000.

Applicants: The Empire District Electric Company.

Description: Initial rate filing per 35.12 FERC Elec Rate Schedule No. 10 to be effective 6/1/2015.

Filed Date: 3/31/15.

Accession Number: 20150331-5437.

Comments Due: 5 p.m. ET 4/21/15.

Docket Numbers: ER15-1406-000.

Applicants: Midcontinent Independent System Operator, Inc.

Description: Section 205(d) rate filing per 35.13(a)(2)(iii): 2015-03-31_SA 2766 ATC—City of Elkhorn CFA to be effective 5/31/2015.

Filed Date: 3/31/15.

Accession Number: 20150331-5447.

Comments Due: 5 p.m. ET 4/21/15.

Docket Numbers: ER15-1407-000.

Applicants: Midcontinent Independent System Operator, Inc.

Description: Section 205(d) rate filing per 35.13(a)(2)(iii): 2015-03-31_SA 2767 ATC—Manitowoc Public Utilities CFA to be effective 5/31/2015.

Filed Date: 3/31/15.

Accession Number: 20150331-5449.

Comments Due: 5 p.m. ET 4/21/15.

Docket Numbers: ER15-1408-000.

Applicants: Midcontinent Independent System Operator, Inc.

Description: Section 205(d) rate filing per 35.13(a)(2)(iii): 2015-03-31_SA 2768 ATC—City of Plymouth CFA to be effective 5/31/2015.

Filed Date: 3/31/15.

Accession Number: 20150331-5450.

Comments Due: 5 p.m. ET 4/21/15.

Docket Numbers: ER15-1409-000.

Applicants: Midcontinent Independent System Operator, Inc.

Description: Section 205(d) rate filing per 35.13(a)(2)(iii): 2015-03-31_SA 2769 ATC—City of Reedsburg CFA to be effective 5/31/2015.

Filed Date: 3/31/15.

Accession Number: 20150331-5474.

Comments Due: 5 p.m. ET 4/21/15.

Docket Numbers: ER15-1410-000.

Applicants: San Diego Gas & Electric Company.

Description: Section 205(d) rate filing per 35.13(a)(2)(iii): SDGE TO Tariff Appendix X Formula Modification to be effective 6/1/2015.

Filed Date: 3/31/15.

Accession Number: 20150331-5506.

Comments Due: 5 p.m. ET 4/21/15.

Docket Numbers: ER15-1411-000.

Applicants: Midcontinent Independent System Operator, Inc.

Description: Section 205(d) rate filing per 35.13(a)(2)(iii): 2015-03-31_SA 2770 ATC—Sun Prairie CFA to be effective 5/31/2015.

Filed Date: 3/31/15.

Accession Number: 20150331-5513.

Comments Due: 5 p.m. ET 4/21/15.

Docket Numbers: ER15-1412-000.

Applicants: Public Service Company of Colorado.

Description: Application of Public Service Company of Colorado for 2014 Production Formula Rate Charges and Transmission Formula Rate Charges for Post-Retirement Benefits Other than Pensions.

Filed Date: 3/31/15.

Accession Number: 20150331-5542.

Comments Due: 5 p.m. ET 4/21/15.

Take notice that the Commission received the following PURPA 210(m)(3) filings:

Docket Numbers: QM14-3-000.

Applicants: Entergy Arkansas, Inc., Entergy Gulf States Louisiana, L.L.C., Entergy Louisiana, LLC, Entergy Mississippi, Inc., Entergy New Orleans, Inc., Entergy Services, Inc., Entergy Texas, Inc, Entergy Services, Inc.

Description: Supplement to March 27, 2015 Response to Second Deficiency Letter of Entergy Services, Inc., et. al.

Filed Date: 3/30/15.

Accession Number: 20150330-5572.

Comments Due: 5 p.m. ET 4/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2015.
Nathaniel J. Davis, Sr.,
Deputy Secretary.

[FR Doc. 2015-07928 Filed 4-6-15; 8:45 am]

BILLING CODE CODE 6717-01-P